DEPARTMENT OF COMMERCE

International Trade Administration

Water Technology Trade Mission to India

AGENCY: International Trade Administration, Department of Commerce.

ACTION: Notice.

Mission Description

The United States Department of Commerce, International Trade Administration, U.S. and Foreign Commercial Service (CS), is organizing a Water Technology Trade Mission to India from February 28 to March 4, 2011. The purpose of the mission is to expose U.S. firms to India's rapidly expanding water and waste water market and to assist U.S. companies to seize export opportunities in this sector. The trade mission participants will be comprised of representatives from leading U.S. companies that provide state-of-the-art water and waste water technologies ranging from hydropower and desalination plants to appliances and purification systems. The mission will visit two cities: Bangalore and Mumbai, where participants will receive market briefings and meet with key government decisions makers and prospective private sector partners on a one-on-one basis. During the Mumbai portion of the mission delegates will use Aquatech India 2011, a leading international water technology show, as a platform for business meetings and networking with the option to exhibit either on their own or in a shared CS exhibition area that will be offered separately as a supplemental service to Trade Mission participants.

Commercial Setting

India faces a critical shortage of reliable, safe water for personal consumption and for industrial use. In recent years rapid industrialization and a growing population have placed increasing demands on the country's limited water resources. Although India receives substantial amounts of annual rainfall, the monsoon season is unpredictable and much of the rainfall is not captured. Furthermore, most of India's water resources are allocated to the agricultural sector, leaving little or no resources for other uses. To address this issue, the government of India and the private sector have made commitments to invest in water and wastewater treatment technologies. To explore these and other opportunities, the trade mission will visit two cities: Bangalore and Mumbai.

• The city of Bangalore, located in the state of Karnataka, receives 70 percent of its water supply (714 million liters per day) from two rivers: The Cauvery and the Arkavati rivers, and the balance from groundwater systems (bore wells, lakes, etc.), yet demand still outstrips supply. The Bangalore Water Supply and Sewerage Board (BWSSB) and the Karnataka Water Supply and Sewerage Board (KWSSB) are the two main government agencies that provide drinking water and sewerage disposal systems to Bangalore and other villages throughout the state. The BWSSB and KWSSB are looking to the private sector to initiate projects on a public-private partnership basis to conserve, recycle, improve operation and maintenance of water treatment plants, and to improve management of water and wastewater utilities. In addition, private real estate developers are creating small residential/commercial townships and are looking for water technologies for conservation and reuse.

Mumbai, in the state of Maharashtra, is the commercial capital of India and a rapidly growing metropolis with a population nearing 20 million people. Mumbai has six lakes serving as freshwater resources, yet the city faces a chronic water shortage. The city does not have adequate supplies of safe drinking water as much of the groundwater is polluted due to sewage and industrial waste. Furthermore, given the Mumbai region's position as an industrial hub, industry needs for highly purified water are large and growing.

The Municipal Corporation of Greater Mumbai (MCGM) is responsible for water purification, supply, sewage treatment and disposal. The MCGM has proposed two recycling plants to be constructed to recycle 250 million liters of water every day. Also, the MCGM is exploring the feasibility of establishing a desalination plant with a capacity of 100 million liters. Private sector water players are looking for community-based wastewater treatment systems that would allow them to bypass the inadequate municipal system. Efforts are also underway to improve citywide rainwater harvesting systems, which creates opportunities for U.S. companies that have expertise in these technologies.

Mission Goals

The goals of the Water Technology Trade Mission to India are to help U.S. water and waste water technology companies initiate and/or expand their exports to India by providing introductions to industry representatives and potential partners, networking opportunities, current market information and a platform for policy discussions with the local Municipal Corporations. U.S. companies will find the best opportunities in sanitation, urban water supply improvement, rainwater capture, and municipal waste treatment. Additional opportunities exist in providing consulting and design services to the Indian water industry.

Mission Scenario

The mission will start in Bangalore, where participants will meet with officials from the state of Karnataka, the local Municipal Corporation and potential private sector partners. Next, the participants will visit Mumbai where they will meet with private water companies and officials from the state of Maharashtra. In Mumbai the participants will have the option to attend Aquatech India 2011, a leading international water technology show in India. The participants will also attend policy, market and commercial briefings by the U.S. Commercial Service as well as networking events offering further opportunities to speak with local business and government representatives. U.S. participants will be counseled before and after the mission by CS India staff. Participation in the mission will include the following:

• Pre-travel briefings on subjects ranging from business practices in India to security;

• Pre-scheduled meetings with potential partners, distributors, end users, or local industry contacts in Bangalore and Mumbai;

• Airport transfers in Bangalore and Mumbai;

• Meetings with state government and local Municipal officials; and,

• Participation in a networking reception in Bangalore.

For trade mission recruitment efforts CS India will work in conjunction with the Global Environmental Team, which will serve as a key facilitator in establishing strong commercial ties to the U.S. water industry. The Global Environmental Team will play an active role in promoting U.S. water technology exports, broadening the identification of NTE/NTM clients, deepening internal CS industry expertise, and contributing to relevant commercial diplomacy successes.

Timetable

Sunday, February 27, 2011 | Bangalore
| Delegates arrive in Bangalore/check-in and rest overnight.
Monday, February 28, 2011 | Bangalore.
| Briefing.
| Meetings with State Government officials.
| Meetings with local Municipal officials.
| Business matchmaking sessions.
| Networking reception.
Tuesday, March 1, 2011 | Bangalore/Mumbai.
| Site visit.
| Travel to Mumbai.
| Arrive in Mumbai/check-in and rest overnight.
Wednesday, March 2, 2011 | Mumbai.
| CS Mumbai briefing.
| Aquatech India 2011 inauguration and exhibition (optional).
| Business matchmaking sessions.
Thursday, March 3, 2011 | Mumbai.
| Meetings with State Government officials.
| Meetings with local Municipal officials.
| Business matchmaking sessions.
| Aquatech India 2011—conference and exhibition (optional).
| Delegates may depart for U.S. or stay for optional Friday activities.
Friday, March 4, 2011 | Mumbai.
| Site visit (optional).
| Aquatech India 2011—conference and exhibition (optional).
| Departure for the U.S.

Participation Requirements

All parties interested in participating in the Water Technology Trade Mission to India must complete and submit an application package for consideration by the Department of Commerce. All applicants will be evaluated on their ability to meet certain conditions and best satisfy the selection criteria as outlined below. The mission will open on a first come first served basis for up to 15 qualified U.S. companies.

Fees and Expenses

After a company has been selected to participate in the mission, a payment to the Department of Commerce in the form of a participation fee is required. The participation fee will be $3,000 for large firms and $2,400 for a small- or medium-sized enterprise (SME), which includes one representative.* The fee for each additional firm representative (large firm or SME) is $250. Expenses for travel, lodging, most meals, and incidentals will be the responsibility of each mission participant.

* An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation.

• Each applicant must also certify that the products and services it seeks to export through the mission are either produced in the United States, or, if not, marketed under the name of a U.S. firm and have at least fifty-one percent U.S. content.

Selection Criteria for Participation

• Suitability of the company's products or services to the market or markets targeted by the mission.

• Consistency of the applicant's goals and objectives with the scope and design of the mission.

• Applicant's potential for business [in the target markets/in the mission country(ies)], including likelihood of exports resulting from the mission.

Diversity of company size, sector or subsector, and location may also be considered during the review process.

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet web sites, press releases to general and trade media, direct mail, notices by industry trade associations and other multiplier groups, and publicity at industry meetings, symposia, conferences, and trade shows. Recruitment for the mission will begin immediately and conclude no later than January 15, 2011. The mission will be open on a first come first served basis. Applications received after that date will be considered only if space and scheduling constraints permit.

Information can also be obtained by contacting the mission contacts listed below.

Contacts

U.S. Commercial Services India, Mr. Kamal Vora, U.S. Commercial Services, Mumbai, Tel: 91-22-22652511, E-mail: Kamal.Vora@trade.gov.

Mr. Leonard Roberts, U.S. Commercial Services, Bangalore, Tel: 91-80-2220-6403, E-mail: Leonard.Roberts@trade.gov. U.S. Commercial Services Export Assistance Centers, Ms. Julia Rauner Guerrero, Senior International Trade Specialist. U.S. Commercial Service, San Diego, Tel: 858-467-7038, E-mail: Julia.Rauner@trade.gov.

Mr. Bill Cline, Director, U.S. Commercial Service, Reno, Tel: 775-784-5203, E-mail: Bill.Cline@trade.gov.

Lisa Huot,
Trade Promotion Programs, International Trade Specialist, U.S. Commercial Service.

[FR Doc. 2011-4555 Filed 2-28-11; 8:45 am]

BILLING CODE 3510-FP-P